DEPARTMENT OF ENERGY

Federal Energy Regulatory Commission

[Docket No. RP01-124-000]

Algonquin Gas Transmission Company; Notice of Proposed Changes in FERC Gas Tariff

December 5, 2000.

Take notice that on November 30, 2000, Algonquin Gas Transmission Company (Algonquin) tendered for filing as part of its FERC Gas Tariff, Fourth Revised Volume No. 1 and Original Volume No. 2, the following revised tariff sheets to become effective January 1, 2001;

Fourth Revised Volume 1

Second Revised Sheet No. 4

Original Sheet No. 36A

Eighth Revised Sheet No. 37

Fourth Revised Sheet No. 241

Original Sheet No. 241A

Second Revised Sheet No. 243

Fourth Revised Sheet No. 245

Fourth Revised Sheet No. 247

Fourth Revised Sheet No. 248

Fifth Revised Sheet No. 940

Fourth Revised Sheet No. 942

Original Volume No. 2

Sixth Revised Sheet No. 1B

First Revised Sheet No. 342

Algonquin asserts that the purpose of this filing is to convert its firm lateral line transportation obligation to New England Power Company from Part 157 Rate Schedule X-37 to Part 284 Rate Schedule AFT-CL pursuant to the automatic authorization conferred by Section 157.217 of the Commission's regulations.

Algonquin states that copies of the filing were mailed to all affected customers and interested state commissions.

Any person desiring to be heard or to protect said filing should file a motion to intervene or a protest with the Federal Energy Regulatory Commission, 888 First Street, NE., Washington, DC 20426, in accordance with Sections 385.214 or 385.211 of the Commission's Rules and Regulations. All such motions or protest must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the intenet in lieu of paper. See, 18 CFR 385.2001(a)(1)(iii) and the instructions on the Commission's web site at http://www.ferc.fed.us/efi/doorbell.htm.

David P. Boergers,
Secretary.

[FR Doc. 00-31430 Filed 12-18-00; 8:45 am]

BILLING CODE 6717-01-M